DEPARTMENT OF COMMERCE

International Trade Administration

Notice of Opportunity To Request Administrative Review; Correction

AGENCY: Enforcement and Compliance, International Trade Administration, Department of Commerce.

ACTION: Notice; correction.

SUMMARY: The Department of Commerce (Commerce) published a notice of opportunity to request administrative reviews of orders, findings, or suspended investigations with anniversary dates in March 2021 in the Federal Register of March 1, 2021. Commerce inadvertently omitted the antidumping duty order on Chloropicrin from the People's Republic of China, and the period of review for that order of 3/1/2020-9/21/2020 from that notice. We are including the missing information in this correction notice.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Correction

In the Federal Resister of March 1, 2021, in FR Doc. 2021-04133 on pages 11922-11923,¹ the table should have included the antidumping duty order on Chloropicrin from the People's Republic of China (A-570-002) and the period of review for that order of 3/1/2020-9/21/2020. Therefore, we are hereby notifying interested parties that not later than 30 days after the date of publication of this correction notice, they may request an administrative review of the antidumping duty order on Chloropicrin from the People's Republic of China for the period 3/1/2020-9/21/2020.

¹ See Antidumping or Countervailing Duty Order, Finding, or Suspended Investigation; Opportunity To Request Administrative Review, 86 FR 11921 (March 1, 2021).

Dated: June 29, 2021.
James Maeder,
Deputy Assistant Secretary for Antidumping and Countervailing Duty Operations.

[FR Doc. 2021-14289 Filed 7-2-21; 8:45 am]

BILLING CODE 3510-DS-P